LIBRARY OF CONGRESS

Copyright Office

[Docket No. 2007-1]

Section 109 Report to Congress

AGENCY: Copyright Office, Library of Congress.

ACTION: Notice of Public Hearings.

SUMMARY: The Copyright Office is holding public hearings on issues related to the operation of, and continued necessity for, the cable and satellite statutory licenses under the Copyright Act.

DATES: Public hearings will be held from July 23, 2007, through July 26, 2007, in the Copyright Office Hearing Room, 4th Floor, James Madison Memorial Building, 101 Independence Avenue, S.E., Washington, D.C. 20540. Each daily session will begin at 10 a.m. Persons wishing to testify should notify the Copyright Office in writing no later than close of business on June 15, 2007. See SUPPLEMENTARY INFORMATION for additional filing requirements.

ADDRESSES: Notices of intent to testify should be addressed to Ben Golant, Senior Attorney, and may be sent by mail or by e-mail to section109@loc.gov. The Copyright Office will notify each person expressing an intention to testify of the expected date and time of his/her testimony. See SUPPLEMENTARY INFORMATION for alternative means of submission and filing requirements.

FOR FURTHER INFORMATION CONTACT: Ben Golant, Senior Attorney, and Tanya M. Sandros, Acting General Counsel, Copyright GC/I&R, P.O. Box 70400, Southwest Station, Washington, DC 20024. Telephone: (202) 707-8380. Telefax: (202) 707-8366.

SUPPLEMENTARY INFORMATION: On December 8, 2004, the President signed the Satellite Home Viewer Extension and Reauthorization Act of 2004, a part of the Consolidated Appropriations Act of 2004. See Pub. L. No. 108-447, 118 Stat. 3394 (2004) (hereinafter “SHVERA”). Section 109 of the SHVERA requires the Copyright Office to examine and compare the statutory licensing systems for the cable and satellite television industries under Sections 111, 119, and 122 of the Copyright Act and recommend any necessary legislative changes no later that June 30, 2008.

Under Section 109, Congress indicated that the report shall include, but not be limited to, the following: (1) A comparison of the royalties paid by licensees under such sections, including historical rates of increases in these royalties, a comparison between the royalties under each such section and the prices paid in the marketplace for comparable programming; (2) An analysis of the differences in the terms and conditions of the licenses under such sections, an analysis of whether these differences are required or justified by historical, technological, or regulatory differences that affect the satellite and cable industries, and an analysis of whether the cable or satellite industry is placed in a competitive disadvantage due to these terms and conditions; (3) An analysis of whether the licenses under such sections are still justified by the bases upon which they were originally created; (4) An analysis of the correlation, if any, between the royalties, or lack thereof, under such sections and the fees charged to cable and satellite subscribers, addressing whether cable and satellite companies have passed to subscribers any savings realized as a result of the royalty structure and amounts under such sections; and (5) An analysis of issues that may arise with respect to the application of the licenses under such sections to the secondary transmissions of the primary transmissions of network stations and superstations that originate as digital signals, including issues that relate to the application of the unserved household limitations under Section 119 and to the determination of royalties of cable systems and satellite carriers.

According to Section 109’s legislative history, the Copyright Office shall conduct a study of the Section 119 and Section 122 licenses for satellite, and the Section 111 license for cable, and to make recommendations for improvements to Congress no later than June 30, 2008. The legislative history further instructs that the Copyright Office must analyze the differences among the three licenses and consider whether they should be eliminated, changed, or maintained with the goal of harmonizing their operation. See H.R. Rep. No. 108-660, 108th Cong., 2d Sess., at 19 (2004).

Earlier this year, we released a Notice of Inquiry seeking comment on several issues associated with the matters identified in Section 109 of the SHVERA. See 72 FR 19039 (April 16, 2007). To further supplement the record, the Office is announcing public hearings for the purpose of taking testimony from interested persons. This Notice describes the schedule and structure for the public hearings.

Public Hearings. Because both the cable and satellite carrier statutory licenses have an impact on the operations and revenues of a number of industries, the Office believes that input from all affected industries is critical to a balanced and comprehensive report to Congress. Consequently, the Office has determined that a process involving both written comments and open hearings is essential to gathering the necessary information. We are, therefore, announcing the following schedule.

The Office will conduct public hearings with interested parties in the Copyright Office Hearing Room at the Madison Building of the Library of Congress beginning on July 23, 2007, and running through July 26, 2007, if necessary. The format for these hearings will resemble the traditional Congressional hearing model in that there will be panels of witnesses that will present testimony to a panel of Copyright Office staff, headed by the Register of Copyrights. The Register and Office staff will ask questions of the various persons who testify, and interested parties may submit written questions to the Office by July 2, 2007, which may be addressed to specific witnesses, or the witnesses as a whole, at the discretion of the Office.

The public hearings are open to the general public. However, in order to testify, interested persons must inform the Office of their intention to testify no later than the close of business on June 15, 2007. Notification of intention to testify must be in written form, either by letter or e-mail, and must be in the possession of the Copyright Office by the close of business on June 15th. Because of time constraints, and the need for the Copyright Office to schedule the panels of witnesses as soon as possible, it is recommended that persons wishing to testify deliver their notification by hand or by e-mail by the deadline. Notifications received after the June 15th deadline will not be accepted, and such person or persons will not be allowed to testify.

The public hearings will begin at 10 a.m. each morning, and will continue until 5 p.m., unless otherwise directed by the Register of Copyrights. The Office will notify each witness who has filed a timely notice of intention to testify several days in advance of the date he/she is expected to appear and offer testimony. The Office will also notify each witness of the other witnesses who will appear on his/her panel. Because of space limitations in the Copyright Office Hearing Room, witnesses are encouraged to appear only on the date they are scheduled to offer testimony.

Witnesses may bring with them on the day of their testimony a written summary of their oral testimony. Witnesses who bring such written summaries are asked to provide ten copies of the written summaries for use by the Office and others in attendance at the hearing.

Transcription services of the public hearings will be provided by the Office. Those parties interested in obtaining transcripts of the hearings will need to purchase them from the transcription service.

Written Statements. All persons who notify the Office of their intention to testify must submit a written statement of their testimony by the July 2, 2007, deadline. We are cognizant that formal written comments in response to the Office’s Section 109 NOI are also due on that date. Parties may submit these comments as their testimony, but an executive summary of such comments also must be submitted by the deadline. Because of time limitations, the Office encourages parties submitting written statements to deliver them to the Office by hand or by e-mail on or before the deadline. Facsimile transmissions of written statements will not be accepted.

Parties submitting written statements are encouraged to include any and all information that they consider relevant to the statutory licensing of broadcast retransmissions. Parties may also include any exhibits that they deem relevant. Ten copies of each written statement must be submitted by the deadline.

There is no prescribed format for the written statements. Parties are encouraged to organize their testimony in as clear and readable form as possible, and to provide a glossary of technical terms used in the written statement. Parties who do not wish to appear at the public hearings are nonetheless permitted, and encouraged, to submit written statements or summaries by the July 2, 2007 deadline.

Reply Comments. After the close of the public hearings, interested parties may submit comments in reply to the written statements and oral testimony. The reply phase is open to all parties, and is not limited to those who testified at the hearings and/or submitted written statements. Reply comments must be in the possession of the Copyright Office by September 13, 2007. We note that this is the date formal reply comments to the Section 109 NOI are due. Reply comments, then, should respond to the formal written comments submitted by parties, to the oral and written testimony submitted for the hearing, and to any other filings parties may wish to submit upon completion of the hearing. No facsimile transmissions of reply comments will be accepted.

Participation and Filing Requirements. Each person wishing to testify must submit a formal written statement of his/her testimony no later than the close of business on July 2, 2007. Written statements will also be accepted from parties who do not wish to testify. Summaries of the formal written testimony, for purposes of oral testimony, may be submitted on the date of testimony. In addition, interested parties may submit written questions, for possible use by panel members of the Copyright Office during the course of hearings, no later than close of business on July 2, 2007.

After the close of the hearings, interested parties may submit written reply comments to the testimony offered at the hearings, including any proposed legislative amendments, no later than close of business on September 13, 2007.

If hand delivered by a private party, an original and five copies of any statements or comments should be brought to Library of Congress, U.S. Copyright Office, Office of General Counsel, 101 Independence Ave, 4th floor, Washington, D.C. 20559, between 8:30 a.m. and 5 p.m. The envelope should be addressed as follows: Ben Golant, Office of the General Counsel, U.S. Copyright Office.

If delivered by a commercial courier, an original and five copies of a comment or reply comment must be delivered to the Congressional Courier Acceptance Site (“CCAS”) located at 2nd and D Streets, NE, Washington, D.C. between 8:30 a.m. and 4 p.m. The envelope should be addressed as follows: Office of the General Counsel, U.S. Copyright Office, LM 430, James Madison Building, 101 Independence Avenue, SE, Washington, DC. Please note that CCAS will not accept delivery by means of overnight delivery services such as Federal Express, United Parcel Service or DHL.

If sent by mail (including overnight delivery using U.S. Postal Service Express Mail), an original and five copies of a comment or reply comment should be addressed to U.S. Copyright Office, Copyright GC/I&R, P.O. Box 70400, Southwest Station, Washington, DC 20024. If sent by e-mail, please send to section109@loc.gov.

Scope of the Proceeding. In accordance with the text of Section 109 of the SHVERA, the Copyright Office will be conducting a global review of the cable and satellite carrier statutory licenses. The hearing will focus on issues related to the retransmission of over-the-air broadcast signals. Any matters raised in the Section 109 NOI are subject to discussion and debate.

Conclusion

We hereby provide notice to the public on the scheduling of hearings associated with Section 109 of the SHVERA and the retention, reform, or elimination of Sections 111, 119, and 122 of the Copyright Act.

Dated: May 14, 2007
Marybeth Peters,
Register of Copyrights,
U.S. Copyright Office.

[FR Doc. E7-9836 Filed 5-22-06; 8:45 am]

BILLING CODE 1410-30-S